INTERNATIONAL TRADE COMMISSION

[Investigation Nos. 701-TA-753 and 731-TA-1731 (Final)]

Slag Pots From China; Determinations

On the basis of the record ¹ developed in the subject investigations, the United States International Trade Commission (“Commission”) determines, pursuant to the Tariff Act of 1930 (“the Act”), that an industry in the United States is materially injured by reason of imports of slag pots from China, provided for in subheadings 7309.00.00 and 8454.20.00 of the Harmonized Tariff Schedule of the United States, that have been found by the U.S. Department of Commerce (“Commerce”) to be sold in the United States at less than fair value (“LTFV”), and subsidized by the government of China.2 3

¹ The record is defined in § 207.2(f) of the Commission's Rules of Practice and Procedure (19 CFR 207.2(f)).

² 90 FR 41986 and 90 FR 41990 (August 28, 2025).

³ Commissioner David S. Johanson determined that an industry in the United States is threatened with material injury by reason of imports of slag pots from China.

Background

The Commission instituted these investigations effective December 31, 2024, following receipt of petitions filed with the Commission and Commerce by WHEMCO-Steel Castings, Inc., Pittsburgh, Pennsylvania. The final phase of the investigations was scheduled by the Commission following notification of preliminary determinations by Commerce that imports of slag pots from China were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on June 24, 2025 (90 FR 26826).⁴ The Commission conducted its hearing on August 27, 2025. All persons who requested the opportunity were permitted to participate.

⁴ Due to the lapse in appropriations and ensuing cessation of Commission operations, all import injury investigations conducted under authority of Title VII of the Tariff Act of 1930 have been tolled pursuant to 19 U.S.C. 1671d(b)(2) and 1673d(b)(2).

The Commission made these determinations pursuant to §§ 705(b) and 735(b) of the Act (19 U.S.C. 1671d(b) and 19 U.S.C. 1673d(b)). It completed and filed its determinations in these investigations on November 25, 2025. The views of the Commission are contained in USITC Publication 5679 (November 2025), entitled Slag Pots from China: Investigation Nos. 701-TA-753 and 731-TA-1731 (Final).

By order of the Commission.
Issued: November 26, 2025.
Susan Orndoff,
Supervisory Attorney.

[FR Doc. 2025-21691 Filed 11-28-25; 8:45 am]

BILLING CODE 7020-02-P